DEPARTMENT OF THE INTERIOR

U.S. Geological Survey

Agency Information Collection Activities: National Geological and Geophysical Data Preservation Program (NGGDPP)

AGENCY: U.S. Geological Survey (USGS).

ACTION: Notice of a new information collection.

SUMMARY: To comply with the Paperwork Reduction Act of 1995 (PRA), we are notifying the public that we have submitted to the Office of Management and Budget (OMB) a new information collection request (ICR) for approval of the paperwork requirements for the National Geological and Geophysical Data Preservation Program (NGGDPP). This notice provides the public an opportunity to comment on the paperwork burden of the project narrative and report requirements discussed below.

DATES: You must submit comments on or before May 8, 2009.

ADDRESSES: Please submit comments on this information collection directly to the Office of Management and Budget Office of Information and Regulatory Affairs, Attention: Desk Officer for the Department of the Interior, via e-mail [OIRA_DOCKET@omb.eop.gov] or fax 202-395-5806; and identify your submission as 1028-NEW. Please also submit a copy of your comments to Phadrea Ponds, USGS Information Collection Clearance Officer, 2150-C Center Avenue, Fort Collins, CO 80525 (mail); (970)226-9230 (fax); or pponds@usgs.gov (e-mail). Please reference Information Collection 1028-NEW, NGGDPP in the subject line.

FOR FURTHER INFORMATION CONTACT: Frances W. Pierce at (703) 648-6636 or by mail at U.S. Geological Survey, 912 National Center, Sunrise Valley Drive, Reston, VA 20192.

SUPPLEMENTARY INFORMATION:

I. Abstract

This notice concerns the collection of information that is sufficient and relevant to evaluate and select proposals for funding under the NGGDPP. We will accept proposals from State geological surveys requesting funds to inventory and assess the condition of current collections and data preservation needs. Financial assistance will be awarded annually on a competitive basis following the evaluation and ranking of State proposals by a review panel composed of representatives from the Department of the Interior, State geological surveys, academic institutions, and the private sector. To submit a proposal, you must complete a project narrative and submit the application via Grants.gov. Grant recipients must complete a final technical report at the end of the project period. Narrative and report guidance is available through http://datapreservation.usgs.gov/ and at http://www.Grants.gov.

II. Data

OMB Control Number: None. This is a new collection.

Title: National Geological and Geophysical Data Preservation Program (NGGDPP).

Respondent Obligation: Required to obtain or retain a benefit.

Frequency of Collection: Annually.

Estimated Number and Description of Respondents: 62 State Geological Surveys.

Estimated Number of Annual Responses: 62 (34 applications and 28 reports).

Estimated Annual Reporting and Recordkeeping “Hour” Burden: 1,232 hours. We expect to receive approximately 34 applications. It takes each applicant approximately 35 hours to complete the narrative and to present supporting documents. This includes the time for project conception and development, proposal writing and reviewing, and submitting the proposal application through Grants.gov (totaling 1,190 burden hours). We anticipate awarding 28 grants per year. The award recipients must submit a final report. We estimate that it will take approximately 1.5 hours to complete the requirement for the reports (totaling 42 hours).

Estimated Reporting and Recordkeeping “Non-Hour Cost” Burden: There are no “non-hour cost” burdens associated with this collection of information.

III. Request for Comments

On September 15, 2008, we published a Federal Register notice (73 FR 53265) announcing that we would submit this information collection to OMB for approval. The notice provided a 60-day public comment period ending on November 14, 2008. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Comments that you submit in response to this notice are a matter of public record. We will include or summarize each comment in our request to OMB to approve this ICR. Before including your address, phone number, e-mail address or other personal identifying information in your comment, you should be aware that your entire comment including your personal identifying information, may be made publicly available at anytime. While you can ask us in your comment to withhold your personal identifying information from public review, we cannot guarantee that we will be able to do so.

Dated: April 2, 2009.
Frances Pierce,
Acting Program Coordinator, National Geological and Geophysical Data Preservation.

[FR Doc. E9-7928 Filed 4-7-09; 8:45 am]

BILLING CODE 4311-AM-P